DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of June 5, 2017 through August 18, 2017. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated; and (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path

(i) The sales or production, or both, of such firm, have decreased absolutely; and (ii and iii below)

(ii)(I) imports of articles or services like or directly competitive with articles produced or services supplied by such firm have increased or

(II)(aa) imports of articles like or directly competitive with articles into which one or more component parts produced by such firm are directly incorporated, have increased; or

(II)(bb) imports of articles like or directly competitive with articles which are produced directly using the services supplied by such firm, have increased; or

(III) imports of articles directly incorporating one or more component parts produced outside the United States that are like or directly competitive with imports of articles incorporating one or more component parts produced by such firm have increased; and

(iii) the increase in imports described in clause (ii) contributed importantly to such workers' separation or threat of separation and to the decline in the sales or production of such firm; or

(B) Shift in Production or Services to a Foreign Country Path or Acquisition of Articles or Services From a Foreign Country Path

(i)(I) There has been a shift by such workers' firm to a foreign country in the production of articles or the supply of services like or directly competitive with articles which are produced or services which are supplied by such firm; or

(II) such workers' firm has acquired from a foreign country articles or services that are like or directly competitive with articles which are produced or services which are supplied by such firm; and

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) A significant number or proportion of the workers in the workers' firm or an appropriate subdivision of the firm have become totally or partially separated, or are threatened to become totally or partially separated; and

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4)); and

(3) either—

(A) the workers' firm is a supplier and the component parts it supplied to the firm described in paragraph (2) accounted for at least 20 percent of the production or sales of the workers' firm; or

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e)) must be met, by following criteria (1), (2), and (3) as follows:

(1) The workers' firm is publicly identified by name by the International Trade Commission as a member of a domestic industry in an investigation resulting in—

(A) an affirmative determination of serious injury or threat thereof under section 202(b)(1) of the Act (19 U.S.C. 2252(b)(1)); or

(B) an affirmative determination of market disruption or threat thereof under section 421(b)(1) of the Act (19 U.S.C. 2436(b)(1)); or

(C) an affirmative final determination of material injury or threat thereof under section 705(b)(1)(A) or 735(b)(1)(A) of the Tariff Act of 1930 (19 U.S.C. 1671d(b)(1)(A) and 1673d(b)(1)(A)); and

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); or

(B) notice of an affirmative determination described in subparagraph (B) or (C) of paragraph (1) is published in the Federal Register; and

(3) the workers have become totally or partially separated from the workers' firm within—

(A) the 1-year period described in paragraph (2); or

(B) not withstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
90,314 | Pacific Fir Lumber Company | Sheridan, OR | January 1, 2014.
91,659 | Whiting Paper Company | Menasha, WI | April 1, 2015.
91,837 | ConocoPhillips, Bartlesville Shared Services, Corporate Staff, TEKsystems, etc | Bartlesville, OK | May 23, 2015.
91,890 | MI Swaco, Schlumberger Technology Corporation | New Orleans, LA | June 8, 2015.
91,922 | Seattle-Snohomish Mill Co., Inc | Snohomish, WA | June 14, 2015.
92,195 | Daimler Trucks North America, Mt. Holly Truck Manufacturing Plant | Mt. Holly, NC | August 18, 2015.
92,211 | Petram Enterprises Inc | Tualatin, OR | September 14, 2015.
92,211A | Petram Enterprises Inc., Aerotek Inc | Sheridan, OR | September 14, 2015.
92,463 | Brayton Point Energy, LLC, Dynegy Resource III, LLC, Corestaff | Somerset, MA | December 5, 2015.
92,468 | General Motors (GM), Lansing Grand River Assembly Plant, Development Dimensions International | Lansing, MI | July 22, 2017.
92,468A | GM Subsystems Manufacturing, LLC, Development Dimensions International | Lansing, MI | December 7, 2015.
92,489 | SuperGenius Industries, LLC | Oregon City, OR | December 13, 2015.
92,491 | Sappi North America (S.D. Warren Company), Sappi Limited | Allentown, PA | May 21, 2016.
92,503 | Asurion Services, LLC, Work at Home Employees, N.E.W. Customer Service Companies, LLC | Nashville, TN | December 22, 2015.
92,617 | Aero-Mach Labs, Inc | Wichita, KS | February 7, 2016.
92,627 | Ameridial Inc | Spindale, NC | February 7, 2016.
92,656 | Hyundai Rotem USA Corporation, Hyundai Rotem Company, Aerotek | Philadelphia, PA | February 21, 2016.
92,661 | McFarland Cascade Holdings, Inc., Stella-Jones Corporation | Rochester, WA | February 15, 2016.
92,661A | McFarland Cascade Holdings, Inc., Stella-Jones Corporation | Arlington, WA | February 15, 2016.
92,661B | McFarland Cascade Holdings, Inc., Stella-Jones Corporation | Shelton, WA | February 15, 2016.
92,700 | Inteva Products, LLC, The Renco Group, Inc., The Bartech Group | Adrian, MI | March 6, 2016.
92,742 | Panasonic Appliances Company of America, Panasonic Corporation of North America | Danville, KY | March 18, 2016.
92,761 | Streamline International, Convergys Corporation | Wilsonville, OR | March 24, 2016.
92,769 | River Steel, Inc | West Salem, La Crosse, WI | March 14, 2016.
92,789 | U.S. Steel Seamless Tubular Operations, LLC, Lorain Tubular Operations, United States Steel Corporation | Lorain, OH | July 3, 2016.
92,795 | Piqua Champion Foundry, Inc | Piqua, OH | April 5, 2016.
92,799 | Chippewa Shoe Company, LLC, Justin Brands, Inc | Bangor, ME | April 5, 2016.
92,801 | Fiat Chrysler America (FCA), Sterling Heights Assembly Plant | Sterling Heights, MI | April 6, 2016.
92,824 | INDSPEC Chemical Corporation, INDSPEC Holding Corporation, Occidental Chemical Holding Corporation, etc | Petrolia, PA | April 13, 2016.
92,840 | ESCO Company, LLC, Mitsui Chemicals America, Inc | Muskegon, MI | April 25, 2016.
92,843 | Majestic Wood Products II, LLC | White City, OR | April 25, 2016.
92,864 | Canam Steel Corporation, Canam US Holdings, Inc., Canam Group, Inc., Aerotek | Point of Rocks, MD | May 2, 2016.
92,866 | LedVance, LLC, Osram Sylvania, LedVance GMBH, Manpower Inc., W&W Sons Contracting | St. Marys, PA | May 6, 2017.
92,866A | Wortman Controls, Inc., Manpowergroup US, Inc., Penn Highlands Elk, LedVance, LLC, etc | St. Marys, PA | May 3, 2016
92,869 | Congoleum Corporation, Plant 2 | Trenton, NJ | May 4, 2016.
92,881 | DME Company LLC, Youngwood, Milacron Corporation, Aerotek Staffing Services | Youngwood, PA | May 9, 2016.
92,913 | Computer Aid, Inc., TEK Consulting, NEE Consulting LTD., SB Technical Inc | Allentown, PA | April 25, 2016.
92,919 | Ernie Green Industries, Inc., eNNOVEA, LLC | Erie, PA | May 10, 2016.
92,927 | New Castle Industries, Inc., Nordson Xaloy, Inc., Manpower Group US | New Castle, PA | June 1, 2016.
92,935 | Jefferson Yarns, Inc | Pulaski, VA | May 19, 2016.
92,961 | North American Communications, Spherion Staffing, Aerotek | Duncansville, PA | June 20, 2016.
93,014 | Pacific Coast Feather Company, Down and Feather Division of PCFC, Hollander Sleep Products, etc | Des Plaines, IL | July 13, 2016.

The following certifications have been issued. The requirements of Section 222(a)(2)(B) (Shift in Production or Services to a Foreign Country Path or Acquisition of Articles or Services from a Foreign Country Path) of the Trade Act have been met.

TA-W No. | Subject firm | Location | Impact date
91,762 | R.R. Donnelley & Sons Company, Staffmark, Kelly Services | Portland, OR | April 29, 2015.
91,830 | Epsilon Data Management, LLC, ADS Alliance Data Systems, Inc., Sogeti, Theorem | Irvine, TX | May 16, 2015.
92,199 | Dell Financial Services LLC, Dell Technologies Inc | Round Rock, TX | September 12, 2015.
92,343 | Elie Tahari, Ltd., Patternmakers, Samplemakers | New York, NY | October 18, 2015.
92,400 | International Automotive Components (IAC), Aerotek | Iowa City, IA | November 5, 2015.
92,436 | Cameron International Corporation, Schlumberger Ltd., Process Systems | Electra, TX | March 13, 2016.
92,459 | Unilever United States, Inc., IT Department, Unilever NV, Monroe Staffing Service LLC | Trumbull, CT | December 2, 2015.
92,459A | Unilever United States, Inc., IT Department, Unilever NV, Monroe Staffing Service LLC | Shelton, CT | December 2, 2015.
92,459B | Unilever United States, Inc., IT Department, Unilever NV | Englewood Cliffs, NJ | December 2, 2015.
92,511 | Source One Cable Technology, Inc | San Jose, CA | December 28, 2015.
92,545 | BlueLine Rental, LLC, Vander Intermediate Holding III Corporation, Accounts Payable Group, etc | Shippensburg, PA | January 11, 2016.
92,583 | Davita Medical Management, LLC, HealthCare Partners, LLC, DaVita, Inc., Medical Claims Processing | El Segundo, CA | January 26, 2016.
92,618 | Bank of America, Home Affordable Program, Bank of America N.A | Plano, TX | January 25, 2016.
92,625 | Tronc, Inc., Technology, Apex Systems, Bitwise, Infosys, iSpace, etc | Chicago, IL | February 6, 2016.
92,625A | Tronc, Inc., Tribune Publishing, Technology, Tata Consulting Services | Lewisville, TX | February 6, 2016.
92,625B | Tronc, Inc., Technology, Tata Consulting Services | Allentown, PA | February 6, 2016.
92,625C | Tronc, Inc., Technology, iSpace, Tata Consulting Services, 501 North Calvert Street | Baltimore, MD | February 6, 2016.
92,625D | Tronc, Inc., Technology, Apex Systems, iSpace, Tata Consulting Services | Orlando, FL | February 6, 2016.
92,625E | Tronc, Inc., Technology, Tata Consulting Services | Deerfield Beach, FL | February 6, 2016.
92,625F | Tronc, Inc., Technology, Infosys, iSpace, Tata Consulting, 202 West Broad Street | Los Angeles, CA | February 6, 2016.
92,625G | Tronc, Inc., Technology, Tata Consulting Services | Hartford, CT | February 6, 2016.
92,625H | Tronc, Inc., Technology, iSpace, Tata Consulting Services, 600 B. Street, Suite 1201 | San Diego, CA | February 6, 2016.
92,625I | Tronc, Inc., Technology, iSpace, Tata Consulting Services, 350 Camino de la Reina | San Diego, CA | February 6, 2016.
92,626 | Kaba llco Corp., Dormakaba Group, The Resource, Aerotek, Accountemps | Winston-Salem, NC | January 11, 2016.
92,657 | The Seattle Times, Pre-Press Department, Traffic Central Group | Seattle, WA | February 16, 2016.
92,663 | Lionbridge Technologies, Inc., ACO Project Division | Bellevue, WA | February 16, 2016.
92,668 | Thomson Reuters, Pontoon | Stamford, CT | February 21, 2016.
92,683 | IntelliServ, Inc., National Oilwell Varco, Inc., Grant Prideco, Inc., Elwood Staffing, etc | Provo, UT | February 27, 2016.
92,694 | LifeScan Products LLC, Kelly Services Worksense | Aguadilla, PR | March 3, 2016.
92,695 | Delta Products Corporation, Aerotek Staffing | Hillsboro, OR | March 3, 2016.
92,696 | Littelfuse Inc., Traffic, Workforce | Eagle Pass, TX | March 3, 2016.
92,711 | Amdocs Incorporated, Amdocs Limited, GSS NAM PSG | Champaign, IL | March 9, 2016.
92,713 | Tronc, Inc., Finance Division, NIIT Technologies, Inc | Fountain Valley, CA | March 9, 2016.
92,719 | Burleigh Point LTD, Billabong International LTD, RVCA, Quality Control, 24/7 Talent | Irvine, CA | March 10, 2016.
92,722 | Exacq Technologies, Inc., Sensormatic Electronics, LLC, Tyco International, Johnson Controls, Inc | Fishers, IN | March 13, 2016.
92,723 | Hexion, Inc., Forest Products | Mount Jewett, PA | March 13, 2016.
92,739 | Micrometals Texas, Inc., Micrometals, Inc., Manpower, Inc | Abilene, TX | March 16, 2016.
92,740 | NSi Industries LLC, Adecco, Direct Staffing Solutions | Mount Vernon, NY | March 16, 2016.
92,751 | Epicor Software Corporation, Epicor, Inc., ZeroChaos | Bensalem, PA | March 21, 2016.
92,763 | Shoes for Crews, LLC, Customer Service Call Center, Auxis Managed Services LLC | West Palm Beach, FL | March 23, 2016.
92,766 | Mission Solar Energy, LLC, OCI Company Limited, Tri-Starr Personnel | San Antonio, TX | March 27, 2016.
92,770 | St. John Knits, Inc., Knitwear, St. John Knits International, Inc | Irvine, CA | March 27, 2016.
92,771 | Gloucester Seafood Processing, Inc., Jorzac Corp., EDA Staffing, Inc | Gloucester, MA | March 27, 2016.
92,784 | Pall Corporation, Danaher, Food and Beverage Business Unit (F&B) | Westborough, MA | March 31, 2016.
92,785 | Mitel, Collections, Accountemps, Prologistix | Reno, NV | April 3, 2016.
92,788 | Staples Shared Services Center, LLC, Financial Share Services, Staples Contract & Commercial, Inc., Tapfin, etc | Columbia, SC | April 3, 2016.
92,790 | A123 Systems LLC, Adecco—USA | Romulus, MI | April 4, 2016.
92,790A | A123 Systems LLC, Adecco—USA | Livonia, MI | April 4, 2016.
92,794 | Diamond Materials Tech, Inc., Meyer Burger, Robert Half, Elwood Staffing | Colorado Springs, CO | April 5, 2016.
92,797 | AF Gloenco Inc., AFGlobal Corporation | Greenville, SC | April 7, 2016.
92,800 | Dell USA, L.P., Global Support Administration, Dell Technologies Inc | Round Rock, TX | April 6, 2016.
92,802 | Firstsource Solutions USA, LLC, Firstsource Solutions Ltd., Information Technology, etc | Louisville, KY | April 6, 2016.
92,803 | Lasermasters, LLC dba LMI Solutions, PHXCO, LLC, GPS Holdings, LLC, Solutions Staffing | Phoenix, AZ | April 5, 2016.
92,803A | Lasermasters, LLC dba LMI Solutions, PHXCO, LLC, GPS Holdings, LLC, Remedy Intelligent Staffing | McFarland, WI | April 5, 2016.
92,804 | Schneider Electric, Volt | Peru, IN | April 6, 2016.
92,808 | USF Reddaway Inc., Corporate, YRC Worldwide Inc., Integrity Staffing Solutions, etc | Tualatin, OR | April 7, 2016.
92,810 | Avid Technology, Inc., Global Logic, Advantage, Click to Play Media, Inc., Aaron Martin Media | Burlington, MA | April 6, 2016.
92,812 | Sharp Laboratories of America, Inc., Sharp Electronics Corporation, Aerotek, Azad, etc | Camas, WA | April 6, 2016.
92,813 | Storm Manufacturing Group Inc. (SMG), Machine Shop, Storm Industries Inc | Torrance, CA | April 10, 2016.
92,814 | Rockwood Casualty Insurance Company, Argo Group International Holdings, LTD., Wipro, Secure 24, CSS Corporation | Rockwood, PA | April 11, 2016.
92,814A | Rockwood Casualty Insurance Company, Argo Group International Holdings, LTD., Wipro, Secure 24, CSS Corporation | San Antonio, TX | April 11, 2016.
92,815 | Land O'Lakes, Inc., IT-Master Data Management | Roseville, MN | April 11, 2016.
92,829 | Thomson Reuters, Finance & Risk Trading, Pontoon | New York, NY | April 17, 2016.
92,831 | Monsoon Inc | Portland, OR | April 19, 2016.
92,832 | Finisar Corporation, Operations, Manufacturing, Purchasing, and Engineering | Horsham, PA | April 25, 2017.
92,844 | Arrow International, Teleflex, Aerotek | Asheboro, NC | May 8, 2017.
92,844A | The Agency, Arrow International, Teleflex | Asheboro, NC | April 24, 2016.
92,848 | Watts Regulator Company, Orion Enterprises, Orion Enterprises, Inc., Morgan Hunter, etc | Kansas City, KS | April 26, 2016.
92,851 | Consolidated Metco, Inc., Bryson City Plant, Amsted Industries Incorporated, Manpower, Aerotek | Bryson City, NC | April 13, 2016.
92,852 | Essentra Components, Information Technology Department, Essentra plc, Nicholas Matteson | Erie, PA | April 27, 2016.
92,852A | Essentra Components, Information Technology Department, Essentra plc, Nicholas Matteson | Westchester, IL | April 27, 2016.
92,856 | Blue Cross & Blue Shield of Rhode Island, Randstad, Aerotek, Kforce, TEKsystems | Providence, RI | April 28, 2016.
92,857 | TE Connectivity/Measurement Specialties, TE Connectivity Corporation, Kelly Services, Aerotek, AppleOne, etc | Chatsworth, CA | May 1, 2016.
92,860 | Mellanox Technologies Silicon Photonics, Inc., Kolura, Inc., Mellanox Technologies, Inc., Aerotek | Monterey Park, CA | April 26, 2016.
92,863 | General Mills Services, Inc., Information Technology (IT), Finance, and Administrative Services, etc | Golden Valley, MN | May 1, 2016.
92,865 | Goodyear Commercial Tire &Service Centers, Corporate Office & Field Leadership, etc | Fort Smith, AR | May 3, 2016.
92,867 | RR Donnelley, Office Tiger, Larson Brown, Bachrach Group | New York, NY | April 17, 2016.
92,868 | Zebra Technologies Corporation, Holtsville-Zebra Enterprise Visibility & Mobility (EVM) Segment, etc | Holtsville, NY | May 4, 2016.
92,870 | Mondi Akrosil, LLC, Consumer Packaging Division, Mondi International Holdings B.V., Iforce, etc | Lancaster, OH | May 4, 2016.
92,874 | ASG Technologies Group, Inc | Arlington, TX | May 8, 2016.
92,875 | Baldor Electric Company, RMMG Division, ABB Ltd., Penmac Staffing, TEC Staffing Services | Fort Smith, AR | May 8, 2016.
92,876 | Medtronic | Columbia Heights, MN | May 8, 2016.
92,876A | Medtronic | Coon Rapids, MN | May 8, 2016.
92,878 | Trombetta, Trombetta Electronics Division, Trumpet Holdings, Inc | Malden, MA | May 2, 2016.
92,879 | Beaver-Visitec International, Inc., Beaver-Visitec International Holdings, Inc., NESC Staffing Corporation, etc | Waltham, MA | April 28, 2016.
92,884 | Medical Business Services NW, Inc | Tigard, OR | May 11, 2016.
92,886 | Maggy London Int'l Limited, 530 7th Avenue | New York, NY | August 20, 2016.
92,886A | Maggy London Int'l Limited, 132 West 36th Street, 8th Floor | New York, NY | May 10, 2016.
92,888 | Conduent Business Services, Healthcare, Xerox Business Services, Aerotek, Randstad | Moosic, PA | May 12, 2016.
92,889 | ContiTech North America, Inc., ContiTech Division, Continental AG | Truman, AR | May 15, 2016.
92,892 | Timex Group USA, Inc., Timex Group B.V., Express Employment, FirstStaff Staffing, etc | North Little Rock, AR | May 15, 2016.
92,896 | Altiostar Networks, Inc., Corporate Division, Blacktree Technical Group, Express Employment, etc | Tewksbury, MA | May 16, 2016.
92,898 | Duracell Manufacturing, Duracell Manufacturing, Inc., Technical Associates, XLC Services, etc | Lancaster, SC | May 15, 2016.
92,900 | Bank of America, Bank of America, N.A | Simi Valley, CA | May 17, 2016.
92,901 | McCain Foods USA, Inc., Associated Staffing, Advance Services, Inc., Malace HR, etc | Grand Island, NE | May 18, 2016.
92,902 | OECO LLC, Meggitt Sensing Systems, Meggitt PLC, Aerotek, CDI Corp., etc | Milwaukie, OR | May 18, 2016.
92,903 | The Boeing Company, Boeing Commercial Aircraft (BCA), American Cybersystems Inc | Tukwila, WA | August 7, 2017.
92,903A | The Boeing Company, Boeing Commercial Aircraft (BCA), Apollo Professional Solutions Inc., etc | Portland, OR | May 19, 2016.
92,910 | ABB Inc., Human Resource Services, Pontoon Solutions | Cary, NC | May 22, 2016.
92,912 | Dr. Leonard's Healthcare Corporation, Order Services Division, AmeriMark Holdings | Lincoln, NE | May 23, 2016.
92,914 | Trostel, Ltd., Preferred Compounding Corporation | Lake Geneva, WI | May 17, 2016.
92,915 | Bloomberg L.P., Global Data Division, Bloomberg Inc., Forrest Solutions Group, etc | Skillman, NJ | May 24, 2016.
92,916 | Kelvion Inc., Kelvion, Manpower, JFC Global, Miller Brothers Staffing (MBS) | York, PA | May 24, 2016.
92,923 | Health Care Service Corporation, Information Technology (Infrastructure) Services | Chicago, IL | May 15, 2016.
92,928 | Dell USA, L.P., Americas Dispatch Support Center, Dell Technologies Inc | Round Rock, TX | May 22, 2016.
92,930 | Robertshaw, Burner Systems International, Inc. Belfex, Express, Resource MFG, etc | Chattanooga, TN | June 2, 2016.
92,931 | United Parcel Service, Columbia Collection on Delivery (COD), Spherion Staffing Services | West Columbia, SC | June 5, 2016.
92,933 | Wolfe Tory Medical Inc., Teleflex, Inc., Aerotek, Express Employment, Medical Professionals, etc | Salt Lake City, UT | June 5, 2016.
92,938 | Adient US, LLC, Lexington Plant, Adient PLC, Manpower, 659 Natchez Trace Drive | Lexington, TN | June 8, 2016.
92,938A | Adient US, LLC, Lexington Plant, Adient PLC, Manpower, 450 Mig Drive | Lexington, TN | June 8, 2016.
92,939 | SKF USA, Inc., San Diego Office, AB SKF, Target CW, PrideStaff | San Diego, CA | June 9, 2016.
92,941 | The Prudential Insurance Company of America, ILI Technology & Business Services Division, Atlantic Partners, etc | Roseland, NJ | June 9, 2016.
92,942 | SECO Manufacturing, Trimble, Inc., Trimble Navigation, Manpower, Clear Path | Mound City, IL | June 12, 2016.
92,946 | Carlisle Etcetera LLC, Accounting Department, Royal Spirit Limited | New York, NY | June 12, 2016.
92,947 | Vista Inkjets, Inc., EmployBridge, Express Staffing Employment Professionals | Tucson, AZ | April 3, 2016.
92,950 | Health Care Service Corporation, Information Technology Infrastructure) Services | Richardson, TX | June 14, 2016.
92,962 | Fisher & Ludlow Inc., Nucor Grating | Litchfield, IL | June 20, 2016.
92,968 | Fiserv, Inc., Randstad | Lincoln, NE | June 22, 2016.
92,969 | Louis Garneau USA, Inc., Production Floor Division, Louis Garneau Sports, Inc | Derby, VT | June 22, 2016.
92,974 | Checkfreepay Corporation, Fiserv, Inc., Randstad | Wallingford, CT | June 26, 2016.
92,978 | Global Display Solutions, Inc., GDS Holding, Dickey's Staffing, Accountemps | Rockford, IL | June 5, 2016.
92,979 | Integrated Energy Technologies Inc., Doncasters, Inc., Express Employment | Chula Vista, CA | June 28, 2016.
92,980 | Technicolor, Inc., Financial Shared Services, Volt Workforce Solutions, CDI Corporation, etc | Ontario, CA | June 28, 2016.
92,981 | TomTom North America, Inc., Sourcing Operations Division | Lebanon, NH | June 28, 2016.
92,982 | Williams Controls, Curtiss-Wright | Portland, OR | June 29, 2016.
92,988 | Coax LLC, High Speed Interconnects LLC | Tigard, OR | June 30, 2016.
92,989 | HSBC Technology and Services, USA (HTSU), HSBC Technology and Services, HSBC North America Holdings, Inc., etc | Depew, NY | June 30, 2016.
92,992 | Hewlett Packard Enterprise, Enterprise Services—Finance Division, Hewlett Packard Enterprise, etc | Chicago, IL | July 3, 2016.
92,997 | HSBC Technology and Services, USA (HTSU), HSBC Technology and Services, HSBC North America Holdings Inc., etc | Jersey City, NJ | July 5, 2016.
92,998 | Nebraska Land Title and Abstract Company (NLTA), CBSHOME Real Estate Company | Omaha, NE | July 6, 2016.
92,999 | Atlas Copco Secoroc LLC, Rock Drilling Tools Division, Atlas Copco AB, Onin Staffing, etc | Grand Prairie, TX | July 7, 2016.
93,000 | CA, Inc | Ewing, NJ | July 7, 2016.
93,002 | Motor Appliance Corporation | Blytheville, AR | July 7, 2016.
93,003 | DXC Technology, HPE Enterprise Services, Collections Division | Omaha, NE | July 10, 2016.
93,004 | IEEE, Publishing Operations Division, Randstad Professionals, APN Consultants | Piscataway, NJ | May 30, 2016.
93,007 | Commemorative Brands, Inc., American Achievement Corporation | Austin, TX | August 9, 2016.
93,008 | Conduent Business Services, LLC, Corporate Function Division, Conduent State Healthcare, LLC, etc | Rochester, NY | July 11, 2016.
93,008A | Conduent Business Services, LLC, Corporate Function Division, Conduent State & Local Solutions, Inc., etc | Webster, NY | July 11, 2016.
93,016 | Flint Group Printing Systems US LLC, Flint Group North America Division, J & J General Maintenance, Inc | Huntington, WV | July 12, 2016.
93,018 | Associated Fuel Pump Systems Corporation, Denso International America (Denso Corporation), Robert Bosch GMBH, etc | Anderson, SC | July 14, 2016.
93,018A | Human Technologies, Incorporated, Manufacturing Solutions, Associated Fuel Pump Systems Corporation | Williamston, SC | July 14, 2016.
93,024 | International Business Machines (IBM), Global Technology Services (GTS), Technology Support Services (TSS), etc | Research Triangle Park, NC | July 18, 2016.
93,026 | St. Vincent Health, Transcription Department, Ascension Health | Indianapolis, IN | July 18, 2016.
93,027 | ODU-USA, Inc., Otto Dunkel GmbH, Crossroads Staffing Service | Camarillo, CA | July 19, 2016.
93,032 | Ditech Financial LLC, IT Application Development Services, Walter Investment Management Corp., etc | St. Paul, MN | July 21, 2016.
93,036 | Health Care Service Corporation, Information Technology Infrastructure) Services | Naperville, IL | July 24, 2016.
93,036A | Health Care Service Corporation, Information Technology Infrastructure) Services | Waukegan, IL | July 24, 2016.
93,037 | TCF National Bank, TCF Financial Corporation, Sioux Falls Division | Sioux Falls, SD | June 28, 2016.
93,045 | TMCI Holdings Inc., R.A.B. Food Group, The Manischewitz Company, Staff Management Group, IRG | Newark, NJ | July 27, 2016.
93,062 | Delta Apparel, Inc., Fun Tees Division, Art Separation Department | Concord, NC | August 4, 2016.

The following certifications have been issued. The requirements of Section 222(b) (supplier to a firm whose workers are certified eligible to apply for TAA) of the Trade Act have been met.

TA-W No. | Subject firm | Location | Impact date
91,941 | Mega Power Inc. | Hickory, KY | June 20, 2015.
92,106 | Gonzalez Group, LLC | Litchfield, MI | August 11, 2015.
92,260 | Yelding, Inc. | Naugatuck, CT | September 27, 2015.
92,324 | ArcelorMittal Plate LLC, Coatesville Division, ArcelorMittal USA, LLC, Adecco Group, Dillon, etc | Coatesville, PA | October 11, 2015.
92,520 | Williamsport Foundry Co., Inc | Williamsport, PA | January 3, 2016.
92,605 | M+W U.S., Inc., M+W Americas, Inc., M+W Group GmbH, NSTAR Global Services, Inc | Plano, TX | February 2, 2016.
92,701 | BorgWarner Thermal Systems Inc., BorgWarner Inc | Cadillac, MI | March 6, 2016.
92,730 | Magna Seating Systems of America, Inc., Lordstown Seating Systems, Magna International Inc., etc | Warren, OH | March 14, 2016.
92,757 | International Automotive Components (IAC) Huron, LLC, Hard Trim, International Automotive Components | Huron, OH | March 23, 2016.
92,817 | Swartfager Welding Inc. | Knox, PA | April 11, 2016.
92,830 | Glacier Line Logging, Inc. | Libby, MT | April 18, 2016.
92,943 | Madico, Incorporated, LINTEC Corporation, North Shore Data, NESC Staffing Company | Woburn, MA | June 9, 2016.
93,035 | General Motors (GM), Warren Global Propulsion Systems, Development Dimensions International | Warren, MI | July 25, 2016.

The following certifications have been issued. The requirements of Section 222(b) (downstream producer to a firm whose workers are certified eligible to apply for TAA) of the Trade Act have been met.

TA-W No. | Subject firm | Location | Impact date
91,337 | Syncreon Logistics (USA) LLC, Syncreon Technology (USA) LLC, Staffmark | Torrance, CA | January 12, 2015.

Negative Determinations for Worker Adjustment Assistance

In the following cases, the investigation revealed that the eligibility criteria for TAA have not been met for the reasons specified.

The investigation revealed that the requirements of Trade Act section 222(a)(1) and (b)(1) (significant worker total/partial separation or threat of total/partial separation), or (e) (firms identified by the International Trade Commission), have not been met.

TA-W No. | Subject firm | Location | Impact date
92,300 | GEX Incorporated | Atkinson, NH. |
92,713A | Tronc, Inc., Finance Division, NIIT Technologies, Inc | Los Angeles, CA. |
92,764 | Rosemount, Inc., Emerson Electric Co., Volt Workforce Solutions | Shakopee, MN. |
92,826 | Honeywell International, Inc., Home and Building Technology Division, Honeywell Security and Fire, etc | Melville, NY. |
92,872 | Allied Ring Corporation, Mahle Engine Components USA, Riken Corporation of America, Adecco | St. John, MI. |
92,885 | Surgical Specialties Corporation, Angiotech Pharmaceuticals, Inc., Gage Personnel, Adecco Staffing | Reading, PA. |
92,899 | EMC Corporation, Data Protection, Dell, Inc., Dell Technologies, Inc | Hopkinton, MA. |

The investigation revealed that the criteria under paragraphs (a)(2)(A)(i) (decline in sales or production, or both), or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
92,708 | HCL America Inc., Infrastructure Division, HCL Technologies Ltd | Mesquite, TX. |
92,737 | FIS Shareholder Systems LLC, Fidelity National Information Services, Inc | Kansas City, MO. |
92,838 | DJO Global, Insurance Bracing, Office Care, Regeneration Division, DJO Global, LLC etc | New Brighton, MN. |

The investigation revealed that the criteria under paragraphs(a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
92,063 | Brenntag Pacific, Inc., Brenntag North America, Inc., Brenntag Group | Portland, OR.
92,070 | Bose Corporation, Printed Circuit Board Design Group, R&D Building | Framingham, MA.
92,212 | ITT Educational Services, Inc | Dearborn, MI.
92,342 | Volt Information Sciences, Staffing Time and Expense Division | Orange, CA.
92,351 | Transocean Offshore Deepwater Drilling Inc., Deepwater Champion Rig, Transocean Entities Holding GmbH | Houston, TX.
92,507 | Halliburton Energy Services, Inc., Artificial Lift Product Service Line | Tulsa, OK.
92,527 | Fuzion Technologies Inc | Freeport, PA.
92,581 | Springs Window Fashions, LLC, AAA Personnel Services, STS Staffing and Temporary Services | Reno, NV.
92,598 | Verizon Wireless, 10734 International Drive, Call Center Operations | Rancho Cordova, CA.
92,613 | Evonik Corporation, Kelly Services | Portland, OR.
92,621 | Silverack, LLC | Brea, CA.
92,623 | ATCO Structures & Logistics (USA), Inc., Gem State Staffing, Personnel Plus | Pocatello, ID.
92,636 | Verizon Wireless | Lincoln, NE.
92,649 | Kleer Fax Inc | Amityville, NY.
92,651 | Verizon Wireless, Call Center Operations | Rochester, NY.
92,666 | Dickard Widder Industries | Maspeth, NY.
92,717 | Aquion Energy, Inc., Manpower, Adecco, Tops Staffing | Pittsburgh, PA.
92,717A | Aquion Energy, Inc., Manpower, Adecco, Tops Staffing | Mount Pleasant, PA.
92,725 | Stephens Paper Company | Stephens, AR.
92,767 | Ocwen Financial Corporation, Ocwen Loan Servicing, LLC, Homeward Residential | Houston, TX.
92,775 | MultiCare Tacoma | Auburn, WA.
92,777 | Macy's Credit and Customer Services, Inc., Macy's Retail Holdings, Inc | Bridgeton, MO.
92,787 | BCBG Max Azria Group, LLC | Vernon, CA.
92,819 | Fox Rent A Car, Inc | Tulsa, OK.
92,825 | Marmon/Keystone LLC, The Marmon Group | East Butler, PA.
92,825A | Marmon/Keystone LLC, The Marmon Group | Butler, PA.
92,828 | National Steel and Shipbuilding Company, General Dynamics Company, Aerotek, Ameriforce, AMP United, etc | San Diego, CA.
92,920 | Health Care Service Corporation, Marion Claims Front E Department, Kelly Services | Marion, IL.
92,921 | JPMorgan Chase &amp; Co., Commercial Banking—Know Your Customers (KYC) Operations, etc | Columbus, OH.
92,922 | Ralph Lauren Corporation, Lyndhurst Business Intelligence Information Technology (IT) Services, etc | Lyndhurst, NJ.
92,948 | CompuCom, EUE Catalog Management | Plano, TX.
92,957 | Zippo Manufacturing Company, Congress Street Facility, Walker Business & Staffing Services | Bradford, PA.
92,964 | Greystone Manufacturing, LLC, HireCall | Sand Springs, OK.
92,970 | Excel Industries, Inc., Hustler Turf Equipment, Inc., Team Employment, LSI Staffing | Hesston, KS.
92,994 | Buckeye Hone Company, Inc., Mancan | Bucyrus, OH.
93,033 | Kmart Stores of Texas, LLC, 1120 McRae Blvd. Store | El Paso, TX.

Determinations Terminating Investigations of Petitions for Trade Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
92,297 | Austin Westran LLC | Byron, IL.
92,461 | Remy USA Industries, LLC, 215 Candlewood Road, Remy International, Inc | Bay Shore, NY.
92,461A | Remy USA Industries, LLC, 12 Wisconsin Court, Remy International, Inc | Bay Shore, NY.
92,658 | Meadville Forging Company, The Keller Group, Inc | Meadville, PA.
92,680 | Data Listing Services dba The Connection | Olean, NY.
92,806 | Entergy Palisades Nuclear Power Plant | Covert, MI.

The following determinations terminating investigations were issued in cases where the petition regarding the investigation has been deemed invalid.

TA-W No. | Subject firm | Location | Impact date
92,434 | Federal Republic of Germany, German Air Force Flying Training Center (GAF FTC) | Holloman Air Force Base, NM.
92,625J | Tronc, Inc., Technology, Tata Consulting Services | Newport News, VA.
92,625K | Tronc, Inc., Technology, Tata Consulting Services | Washington, DC.
92,625L | Tronc, Inc., Technology, Tata Consulting Services | Annapolis, MD.
92,625M | Tronc, Inc., Technology, Tata Consulting Services, 300 E. Cromwell Street | Baltimore, MD.
92,625N | Tronc, Inc., Technology, Tata Consulting Services, 2000 E. 8th Street | Los Angeles, CA.
92,625O | Tronc, Inc., Technology, Tata Consulting Services | Irwindale, CA.

The following determinations terminating investigations were issued because the worker group on whose behalf the petition was filed is covered under an existing certification.

TA-W No. | Subject firm | Location | Impact date
92,469 | General Motors (GM), Lansing Grand River Assembly Plant | Lansing, MI.
92,513 | Trinity Industries, Inc | Cartersville, GA.
92,549 | Trinity Industries, Inc | Oklahoma City, OK.
92,686 | Crew Knitwear LLC | Los Angeles, CA.
92,716 | Siemens Government Technologies, Inc | Wellsville, NY.
92,735 | Ericsson, Inc., Service Line Support and Repair, Region North America Network Services | Plano, TX.
92,749 | Aramark Services, Inc., Aramark Management Services Limited Partnership, Aramark Corporation, etc | Omaha, NE.
92,783 | Verizon Business Network Services, Inc., Client Service Assurance Group | Cary, NC.
92,809 | Verizon Business Network Services, Inc., Client Services Assurance Group | Cary, NC.
92,836 | Modis E&T, LLC, Adecco Group | Boise, ID.
92,850 | Caterpillar, Inc., Industry Solutions and Components | Houston, PA.
92,858 | Emblem Health | New York, NY.
92,873 | Luvo USA, LLC, f/k/a Provita Cuisine LLC, Luvo, Inc | Schaumburg, IL.
92,877 | MarketSource, Inc, Retail Claims Support Center, HP, Inc., etc | Vancouver, WA.
92,883 | Intel Corporation, Sales and Marketing Information Technology (SMIT) Group | Hillsboro, OR.
92,891 | Medtronic | Columbia Heights, MN.
92,904 | The Boeing Company, Boeing Commercial Aircraft (BCA) | Portland, OR.
92,907 | FCR/First Call Resolution | Roseburg, OR.
92,907A | FCR/First Call Resolution | Grants Pass, OR.
92,907B | FCR/First Call Resolution | Coos Bay, OR.
92,907C | FCR/First Call Resolution | Veneta, OR.
92,907D | FCR/First Call Resolution | Eugene, OR.
92,917 | Breg, Inc | Grand Prairie, TX.
92,918 | Breg, Inc., Bledsoe Brace Systems | Plano, TX.
92,966 | Cadmus Journal Services, Inc., Cenveo, Inc | Lancaster, PA.
92,972 | Hewlett Packard Enterprise Services, Service Request Management Division, Hewlett Packard Enterprise | Pontiac, MI.
93,005 | Infotree Services, General Electric | Grove City, PA.
93,012 | Tata Consultancy Services | Redmond, WA.
93,013 | Contemporary Staffing Solutions, One Call Care Management | Jacksonville, FL.
93,029 | Experis-NA, Inc., Outsourced Managed Solutions, HP Research and Development Division, etc | Boise, ID.
93,030 | Tronc, Inc., Formerly Tribune Publishing | Lewisville, TX.
93,041 | Teleflex/Wolf Tory, Inc | Salt Lake City, UT.
93,060 | Commemorative Brands Inc | Austin, TX.

The following determinations terminating investigations were issued because the petitioning group of workers is covered by an earlier petition that is the subject of an ongoing investigation for which a determination has not yet been issued.

TA-W No. | Subject firm | Location | Impact date
92,823 | Gloucester Seafood Processing, Inc., Jorzac Corp., EDA Staffing, Inc | Gloucester, MA.
92,849 | BCBG Max Azria Group, LLC | Vernon, CA.
93,022 | Durafiber Technologies | Salisbury, NC.
93,038 | Pearson, Inc | San Antonio, TX.
93,051 | Pearson Education | Boston, MA.

I hereby certify that the aforementioned determinations were issued during the period of June 5, 2017 through August 18, 2017. These determinations are available on the Department's Web site https://www.doleta.gov/tradeact/taa/taa_search_form.cfm under the searchable listing determinations or by calling the Office of Trade Adjustment Assistance toll free at 888-365-6822.

Signed at Washington, DC, this 22nd day of August 2017.
Hope D. Kinglock,
Certifying Officer, Office of Trade Adjustment Assistance.

[FR Doc. 2017-20761 Filed 9-27-17; 8:45 am]

BILLING CODE 4510-FN-P